DEPARTMENT OF THE INTERIOR

Bureau of Indian Affairs

Proposed Agency Information Collection; Request for Comments

AGENCY: Bureau of Indian Affairs, Interior.

ACTION: Notice.

SUMMARY: In compliance with the Paperwork Reduction Act, the Department of the Interior is seeking extension of an Information Collection Request (ICR) for grantees participating in the Public Law 102-477 program, OMB Control No. 1076-0135. The Department invites public comments on the subject proposal described below.

DATES: Submit written comments regarding this proposal on or before January 27, 2003.

ADDRESSES: Mail comments to George Gover, Director, Office of Economic Development, Bureau of Indian Affairs, Department of the Interior, 1849 C Street, NW., MS-4640-MIB, Washington, DC 20240.

FOR FURTHER INFORMATION CONTACT: Requests for additional information or copies of the information collection instructions should be directed to Lynn Forcia, Office of Economic Development, Bureau of Indian Affairs, Department of the Interior, 1849 C Street, NW., MS-4640-MIB, Washington, DC 20240, at (202)-219-5270 (This is not a toll-free number).

SUPPLEMENTARY INFORMATION:

I. Abstract

The information collection is needed to document satisfactory compliance with statutory requirements of the various integrated programs. Public Law 102-477 authorizes tribal governments to integrate federally funded employment, training and related services programs into a single, coordinated, comprehensive service delivery plan. Funding agencies include the Department of the Interior, Department of Labor and the Department of Health and Human Services. The Bureau of Indian Affairs is statutorily required to serve as the lead agency. Section 11 of this Act requires that the Secretary of the Interior make available a single universal report format which shall be used by a tribal government to report on integrated activities and expenditures undertaken. The Bureau of Indian Affairs shares the information collected from these reports with the Department of Labor and Department of Health and Human Services.

II. Method of Collection

Public Law 102-477 grantees are required to complete a single universal report format including the annual submission of two single page, one-sided report forms and one narrative report, using five pages of instructions. This reporting format was initially developed in 1993 and replaced 166 pages of instructions and forms representing three different agencies with related employment, training, education and welfare reform programs.

Federal partners have now further reduced their reporting requirements for the separate programs and now require approximately 142 pages of instructions and forms total each year. The Public Law 102-477 initiative requires five pages per year of forms and instructions. All tribes must also review instructions and complete annually approximately 62 pages of Department of Health and Human Services, Temporary Assistance to Needy Families (TANF), program forms and instructions. We have not been able to successfully integrate TANF reporting with Public Law 102-477 reporting. In addition, four pages of reports and instructions must be completed by tribes annually for the Bureau of Indian Affairs General Assistance program for determination of allocation of funds. Therefore, tribes participating in Public Law 102-477 currently experience a 50 percent reduction in reporting forms and instructions than if they implemented all programs separately. This reduction is consistent with the Paperwork Reduction Act and goals of the National Performance Review.

The statistical report and narrative report will be used to demonstrate how well a plan was executed in comparison to its proposed goals. This one page, universal report plus narrative satisfies requirements of the Department of Health and Human Services, Department of Labor and the Department of the Interior.

The financial status report will be used to track cash flow, and will allow an analysis of activities versus expenditures and expenditures to approved budget. It is a slightly modified SF-269-A (short form).

These two report forms and the narrative satisfy requirements of the Department of Health and Human Services, Department of Labor and the Department of the Interior. The revised forms reduce the burden on tribal governments by consolidating data collection for employment, training, education, child care and related service programs. The reports are due annually. These forms, developed within a partnership between participating tribes and representatives of all three Federal agencies, standardize terms and definitions, eliminate duplication and reduce frequency of collection.

III. Data

Title: A Reporting System for Public Law 102-477 Demonstration Project.

OMB Control Number: 1076-0135.

Respondents: Tribes participating in Public Law 102-477 will report annually. As of October 1, 2002, we anticipate there will be 48 grantees representing approximately 220 federally-recognized tribes participating in the program.

Burden: We estimate that completion of the reporting requirements will require 16 hours per year to complete for each grantee. The total hour burden will be 768 hours.

IV. Request for Comments

The existing reporting procedure was initially developed in 1993 with the active participation from Department of Labor, Department of Health and Human Services and tribal representatives. Since that time, the forms were modified once to accommodate the Department of Labor's Welfare-to-Work program.

Comments may include:

(a) Whether the collection of information is necessary for the proper performance of the functions of the bureau, including whether the information will have practical utility;

(b) The accuracy of the bureau's estimate of the burden of the collection of information, including the validity of the methodology and assumptions used;

(c) The quality, utility, and clarity of the information to be collected; and

(d) How to minimize the burden of the collection of information on those who are to respond, including the use of appropriate automated electronic, mechanical, or other forms of information technology.

Comments should refer to the proposal by name and/or OMB Control Number and should be sent to Lynn Forcia, Bureau of Indian Affairs, Department of the Interior, 1849 C Street, NW., MS-4660-MIB, Washington, DC 20240. Tribal consultation will be also be sought in January at the next regularly scheduled Public Law 102-477 Tribal Work Group meeting to be held in Washington, DC.

All written comments, names and addresses of commentators will be available for public inspection in Room 4644 of the Main Interior Building, 1849 C Street, NW., Washington, DC from 9 a.m. until 3 p.m., Monday through Friday, excluding legal holidays. If you want us to withhold your name and address you must state that prominently at the beginning of your comment. We will honor your request to the extent allowable by law. Please note that an agency may not conduct or sponsor, and a person is not required to respond to, an information collection request that does not have a currently valid expiration date.

Dated: November 18, 2002.
Neal A. McCaleb,
Assistant Secretary—Indian Affairs.

[FR Doc. 02-30019 Filed 11-26-02; 8:45 am]

BILLING CODE 4310-4M-P